DEPARTMENT OF JUSTICE

[OMB Number 1121-0240]

Agency Information Collection Activities; Proposed eCollection eComments Requested; Reinstatement, With Change, of a Previously Approved Collection: 2024 Law Enforcement Management and Administrative Statistics (LEMAS) Survey

AGENCY: Bureau of Justice Statistics, Department of Justice.

ACTION: 30-Day notice.

SUMMARY: The Bureau of Justice Statistics (BJS), Department of Justice (DOJ) will be submitting the following information collection request to the Office of Management and Budget (OMB) for review and approval in accordance with the Paperwork Reduction Act of 1995.

DATES: Comments are encouraged and will be accepted for 30 days until October 28, 2024.

FOR FURTHER INFORMATION CONTACT: If you have comments especially on the estimated public burden or associated response time, suggestions, or need a copy of the proposed information collection instrument with instructions or additional information, please contact Sean E. Goodison (email: Sean.Goodison@usdoj.gov; telephone: 202-307-0765), Bureau of Justice Statistics, 999 North Capitol Street NE, Washington, DC 20531.

SUPPLEMENTARY INFORMATION: The proposed information collection was previously published in the Federal Register, 89 FR 58765-6, on July 19, 2024. No comments were received.

Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [1121-0240]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Abstract: The LEMAS core survey, conducted every 3 to 4 years since 1987, is currently based on a nationally representative sample of approximately 3,500 general-purpose law enforcement agencies (LEAs). The 2024 LEMAS has been revised to remove questions to help reduce burden and increase clarity. The LEMAS survey has been used to produce national estimates for a wide range of topics, including LEA responsibilities, operating expenditures, job functions of sworn and civilian employees, officer salaries and special pay, demographic characteristics of officers, weapons policies, education and training requirements, special units, and community policing activities. BJS plans to publish this information in reports and reference it when responding to queries from the U.S. Congress, Executive Office of the President, the U.S. Supreme Court, state officials, international organizations, researchers, students, the media, and others interested in criminal justice statistics.

Overview of This Information Collection

1. Type of Information Collection: Reinstatement, with change, of a previously approved collection.

2. Title of the Form/Collection: 2024 Law Enforcement Management and Administrative Statistics (LEMAS) survey.

3. Agency form number, if any, and the applicable component of the Department sponsoring the collection: The form number for the questionnaire is CJ-44. The applicable component within the Department of Justice is the Bureau of Justice Statistics (BJS), in the Office of Justice Programs.

4. Affected public who will be asked or required to respond, as well as the obligation to respond: State and local government. Respondents will be general purpose state, county, and local law enforcement agencies (LEAs), including local and county police departments, sheriff's offices, and primary state law enforcement agencies. The 2024 LEMAS is revised from the 2020 LEMAS. The obligation to respond is voluntary.

5. An estimate of the total number of respondents and the amount of time estimated for an average respondent to respond: An agency-level survey will be sent to approximately 3,500 LEAs. We estimate responses from 81% (2,835) of LEAs sampled for the 2024 LEMAS. The expected burden placed on these respondents is 110 minutes spent on completing the survey. Additionally, an estimated 50% of respondents (1,417) will be contacted for data quality follow-up at 10 minutes per respondent.

6. An estimate of the total public burden (in hours) associated with the collection: There are an estimated 5,435 total burden hours associated with this information collection.

7. An estimate of the total annual cost burden associated with the collection, if applicable: $360,500.

Total Estimated Burden Hours
Activity | Number of respondents | Frequency | Total annual responses | Participation time (minutes) | Total annual burden (hours)
Data collection | 2,835 | 1 | 2,835 | 110 | 5,198
Data quality follow-up | 1,417 | 1 | 1,417 | 10 | 237
Total | 2,835 |  | 2,835 |  | 5,435

If additional information is required, contact: Darwin Arceo, Department Clearance Officer, United States Department of Justice, Justice Management Division, Policy and Planning Staff, Two Constitution Square, 145 N Street NE, 4W-218, Washington, DC.

Dated: September 23, 2024.
Darwin Arceo,
Department Clearance Officer for PRA, U.S. Department of Justice.

[FR Doc. 2024-22119 Filed 9-26-24; 8:45 am]

BILLING CODE 4410-18-P